FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than February 25. 2011.

A. Federal Reserve Bank of Cleveland (Nadine Wallman, Vice President) 1455 East Sixth Street, Cleveland, Ohio 44101-2566

1. David E. Snyder; Sandra J. Snyder; Louella Snyder; Dennis C. Snyder; Kathy S. Snyder; Mark A. Snyder; Carolyn P. Snyder; Elizabeth K. Snyder; Benjamin T. Snyder; Michael D. Snyder; Sally A. Snyder; Charles R. Snyder Smith; Clayton R. Snyder Smith; Cameron R. Snyder Smith; Mark A. Karenchak; and Lisa M. Karenchak, all of Kittanning, Pennsylvania; Richard G. Snyder; Thomas C. Snyder; Debra L. Snyder; Andrew J. Snyder; and Meghan A. Snyder Kolbe, all of Cowansville, Pennsylvania; Roger H. Claypoole; Barbara L. Claypoole; Julie B.C. Doverspike; Brian H. Claypoole; and Angelique N. Claypoole, of Worthington, Pennsylvania; Alisha C. Snyder, Nevillewood, Pennsylvania; Gretchen L. Snyder, Templeton, Pennsylvania; Marsha L. Snyder, and Richard J. Krauland, both of Pittsburgh, Pennsylvania; Bryan K. Snyder; Sydney B. Snyder; Skylar A. Snyder; Brayden G. Snyder; and Alexis N. Snyder, all of Bradford, Pennsylvania; Kelly J. Holmberg, and Hailey J. Holmberg, both of Naples, Florida; and Charles H. Snyder, Jr., Ft. Myers, Florida; to acquire voting shares of Nextier, Inc., Butler, Pennsylvania, and thereby indirectly acquire voting shares of Nextier Bank N.A., Evans City, Pennsylvania.

B. Federal Reserve Bank of Richmond (A. Linwood Gill, III, Vice President) 701 East Byrd Street, Richmond, Virginia 23261-4528

1. Richard T. Spurzem, individually, and Sandbox, LLC, both of Charlottesville, Virginia; to retain voting shares of Pioneer Bankshares, Inc., and thereby indirectly retain voting shares of Pioneer Bank, both of Stanley, Virginia.

Board of Governors of the Federal Reserve System, February 7, 2011.
Jennifer J. Johnson,
Secretary of the Board.

[FR Doc. 2011-2953 Filed 2-9-11; 8:45 am]

BILLING CODE 6210-01-P